ENVIRONMENTAL PROTECTION AGENCY

40 CFR Part 52

[EPA-R09-OAR-2014-0708; FRL-9921-34-Region 9]

Clean Data Determination for 1997 PM2.5 Standards; California—South Coast; Applicability of Clean Air Act Requirements; Extension of Comment Period

AGENCY: Environmental Protection Agency.

ACTION: Proposed rule; extension of comment period.

SUMMARY: The Environmental Protection Agency (EPA) is extending the existing public comment period for a proposal published in the Federal Register on December 9, 2014. In that action, pursuant to the Clean Air Act, EPA proposed to determine that the Los Angeles-South Coast Air Basin (South Coast) air quality planning area in California has attained the 1997 annual and 24-hour fine particle (PM2.5) National Ambient Air Quality Standards. This proposed determination is based upon complete (or otherwise validated), quality-assured, and certified ambient air monitoring data showing that the area has monitored attainment of the 1997 annual and 24-hour PM2.5 standards based on the 2011-2013 monitoring period. If the EPA finalizes this determination of attainment, the requirements for the area to submit certain State implementation plan revisions shall be suspended for so long as the area continues to attain the 1997 annual and 24-hour PM2.5 standards. One commentor requested an extension of the comment period for this proposed rulemaking. EPA is now extending the public comment period for fourteen days.

DATES: The comment period for the proposed rule published on December 9, 2014 (79 FR 72999) is extended. Comments must be received on or before January 22, 2015.

ADDRESSES: Submit comments, identified by docket number EPA-R09-OAR-2014-0708, by one of the following methods:

• Federal eRulemaking Portal: http://www.regulations.gov. Follow the on-line instructions for submitting comments.

• Email: tax.wienke@epa.gov.

• Mail or deliver: Wienke Tax, Air Planning Office, U.S. Environmental Protection Agency, Region 9, Mailcode AIR-2, 75 Hawthorne Street, San Francisco, California 94105-3901.

Instructions: All comments will be included in the public docket without change and may be made available online at http://www.regulations.gov, including any personal information provided, unless the comment includes information claimed to be Confidential Business Information (CBI) or other information whose disclosure is restricted by statute. Information that you consider CBI or otherwise protected should be clearly identified as such and should not be submitted through http://www.regulations.gov or email. The http://www.regulations.gov Web site is an “anonymous access” system, and EPA will not know your identity or contact information unless you provide it in the body of your comment. If you send an email comment directly to EPA, your email address will be automatically captured and included as part of the public comment. If EPA cannot read your comment due to technical difficulties and cannot contact you for clarification, EPA may not be able to consider your comment.

Docket: The index to the docket for this action is available electronically on the http://www.regulations.gov Web site and in hard copy at EPA Region IX, 75 Hawthorne Street, San Francisco, California 94105. While all documents in the docket are listed in the index, some information may be publicly available only at the hard copy location (e.g., copyrighted material), and some may not be publicly available at either location (e.g., CBI). To inspect the hard copy materials, please schedule an appointment during normal business hours with the contact listed in the FOR FURTHER INFORMATION CONTACT section below.

FOR FURTHER INFORMATION CONTACT: Wienke Tax, Air Planning Office, U.S. Environmental Protection Agency, Region 9, Mail Code AIR-2, 75 Hawthorne Street, San Francisco, California 94105-3901, 415-947-4192, tax.wienke@epa.gov.

SUPPLEMENTARY INFORMATION: EPA published a proposed rule in the Federal Register on December 9, 2014 (79 FR 72999). EPA is extending the existing public comment period for that proposal. In that action, pursuant to the Clean Air Act, EPA proposed to determine that the Los Angeles-South Coast Air Basin (South Coast) air quality planning area in California has attained the 1997 annual and 24-hour fine particle (PM2.5) National Ambient Air Quality Standards. This proposed determination is based upon complete (or otherwise validated), quality-assured, and certified ambient air monitoring data showing that the area has monitored attainment of the 1997 annual and 24-hour PM2.5 standards based on the 2011-2013 monitoring period. If the EPA finalizes this determination of attainment, the requirements for the area to submit certain State implementation plan revisions shall be suspended for so long as the area continues to attain the 1997 annual and 24-hour PM2.5 standards. One commentor requested an extension of the comment period for this proposed rulemaking. EPA is now extending the public comment period for fourteen days for the December 9, 2014, proposed clean data determination for the 1997 PM2.5 standards for the South Coast area, California.

Dated: December 18, 2014.
Jared Blumenfeld,
Regional Administrator, EPA Region 9.

[FR Doc. 2014-30951 Filed 1-5-15; 8:45 am]

BILLING CODE 6560-50-P